FEDERAL COMMUNICATIONS COMMISSION

47 CFR Part 1

[PS Docket No. 22-217; DA 23-392; FR ID 143022]

Communications Assistance for Law Enforcement Act, Mandatory Electronic Filing of System Security and Integrity Policies and Procedures Documents

AGENCY: Federal Communications Commission.

ACTION: Final rule.

SUMMARY: In this document, the Federal Communications Commission (the FCC or Commission), amends a rule to announce mandatory use of the CALEA Electronic Filing System (CEFS), which is available at: https://www.fcc.gov/cefs for certain required filings for telecommunications providers pursuant to the Communications Assistance for Law Enforcement Act (CALEA).

DATES: Effective June 29, 2023.

FOR FURTHER INFORMATION CONTACT: Rosemary Cabral, Attorney Advisor, Policy and Licensing Division, Public Safety and Homeland Security Bureau, at (202) 418-0662 or Rosemary.Cabral@fcc.gov; or Chris Fedeli, Attorney Advisor, Public Safety and Homeland Security Bureau at 202-418-1514 or Christopher.Fedeli@fcc.gov.

SUPPLEMENTARY INFORMATION: This is a summary of the Commission's Order in PS Docket No. 22-217, DA 23-392, adopted and released on May 15, 2023. The full text of this document is available at https://docs.fcc.gov/public/attachments/DA-23-392A1.pdf.

Congressional Review Act

The Commission has determined, and the Administrator of the Office of Information and Regulatory Affairs (OIRA), Office of Management and Budget (OMB), concurs, that this rule is non-major under the Congressional Review Act, 5 U.S.C. 804(2). The Commission will send a copy of this Order to Congress and the Government Accountability Office pursuant to 5 U.S.C. 801(a)(1)(A).

Final Regulatory Flexibility Certification

Under Section 604(a) of the Regulatory Flexibility Act, the Bureau is not required to prepare a final regulatory flexibility analysis because the Order does not require notice-and-comment rulemaking. Although not required in this particular situation, we are optionally including a Final Regulatory Flexibility Certification in this order since an Initial Regulatory Flexibility Certification was included in the CEFS Announcement Public Notice.

Paperwork Reduction Act

This document does not adopt or propose new or substantively modified information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4). This document may contain non-substantive modifications to an approved information collection. Any such modifications will be submitted to the Office of Management and Budget for review pursuant to OMB's non-substantive modification process.

Synopsis

Section 105 of the Communications Assistance for Law Enforcement Act, 47 U.S.C. 1004, and section 229(b) of the Communications Act, 47 U.S.C. 229(b), require all covered entities to file System Security and Integrity (SSI) Plans with the Federal Communications Commission (Commission). The Commission first specified the requirements for telecommunications carriers' SSI Plans in 1999. Pursuant to § 1.20005 of the Commission's rules, all providers subject to CALEA must file their SSI Plans prior to commencing service and must re-file a complete updated SSI Plan within 90 days following any changes to information contained in a previously-filed SSI Plan. All SSI Plans must contain all information listed under §§ 1.20003 and 1.20004 of the Commission's rules.

On June 1, 2022, the Public Safety and Homeland Security Bureau (Bureau) announced the launch of CEFS, which allows covered entities to file System Security and Integrity Policies and Procedures Documents (SSI Plans) confidentially and securely online, eliminating the need for paper filing. Filers that seek to file confidentially or to preserve the confidentiality of a piece of information in a filing may still request such treatment under § 0.459 of the Commission's rules. Also, CEFS operates on a platform that links to the Commission Registration System (CORES) to reduce the need for filers to re-enter basic information that CORES users have already provided to the Commission. The new system will allow users to file SSI Plans electronically and, once they have electronically filed a plan in CEFS, to log back in to CEFS and retrieve and view that filing. CEFS encourages timely filings of new SSI Plans and updated SSI Plans and reduces the risk of filing errors that require re-submission.

In the CEFS Announcement Public Notice, the Bureau stated that electronic filing of SSI Plans in CEFS would initially be voluntary and proposed to make electronic filing mandatory six months later. The six-month transition period allowed regulated entities time to familiarize themselves with CEFS and CORES, if necessary, and obtain FCC Usernames and FCC Registration Numbers (FRNs) needed to file in CEFS. The transition period also allowed time for internal consideration of any further modifications to the new system. In response to the CEFS Announcement Public Notice, we received no comments regarding the proposal to mandate electronic filing of SSI Plans or the timing of the proposed requirement. We received one comment from Subsentio, LLC (Subsentio), which serves as a Trusted Third Party (TTP) for entities subject to CALEA, requesting that CEFS implementation include the ability for TTPs to continue to file SSI Plans on behalf of multiple clients.

On December 12, 2022, the Bureau announced the availability of CEFS for voluntary filing of SSI Plans. During this time, the Bureau began accepting SSI Plans that were filed in CEFS voluntarily, and implementing enhancements to ensure that CEFS is operating effectively and efficiently when mandatory electronic filing takes effect.

Over the past decades, the Commission has made significant progress to upgrade and modernize its filing procedures. Given the well-established benefits of electronic filing, in this Order, we amend our rules to require the electronic filing of SSI Plans through the new database, CEFS. Specifically, the order amends § 1.20005 to announce mandatory use of the CALEA Electronic Filing System (CEFS) to file SSI Plans electronically. The new CEFS database will reduce the overall burden associated with these filings as well as increase the efficiency of our administrative processes significantly.

List of Subjects in 47 CFR Part 1

Communications common carriers, Reporting and recordkeeping requirements, Telecommunications.

Federal Communications Commission.
Lauren Kravetz,
Chief of Staff, Public Safety and Homeland Security Bureau.

Final Rules

For the reasons discussed in the preamble, the Federal Communications Commission amends 47 CFR part 1 as follows:

PART 1—PRACTICE AND PROCEDURE

1. The authority citation for part 1 continues to read as follows:

Authority: 47 U.S.C. chs. 2, 5, 9, 13; 28 U.S.C. 2461 note, unless otherwise noted.

2. Amend § 1.20005 by revising paragraph (a) and adding paragraph (c) to read as follows:

§ 1.20005 Submission of policies and procedures and Commission review.

(a) Each telecommunications carrier shall file with the Commission the policies and procedures it uses to comply with the requirements of this subpart. These policies and procedures shall be filed before commencing service and, thereafter, within 90 days of a carrier's merger or divestiture or a carrier's amendment of its existing policies and procedures.

* * * * *

(c) As of June 29, 2023, any filings required by paragraph (a) of this section shall be submitted electronically through the Commission's CALEA Electronic Filing System (CEFS).

[FR Doc. 2023-11417 Filed 5-26-23; 8:45 am]

BILLING CODE 6712-01-P